DEPARTMENT OF EDUCATION

[CFDA No. 84.336]

Teacher Quality Enhancement Grants Program

AGENCY: Office of Postsecondary Education, Department of Education.

ACTION: Notice of pre-application technical assistance workshops.

SUMMARY: The Department of Education has scheduled four regional technical assistance workshops between April 13, 2000 and April 25, 2000, to help prospective applicants better understand the Department's approach to implementing the competitive grant process to be held in Spring 2000 under the Teacher Quality Enhancement Grants Program, authorized by Title II, sections 202-204 of the Higher Education Act of 1965, as amended (HEA). During 2000, the Department will be making awards under the State Grant and Partnership Grant components of the Program. For further information on these competitions, please refer to the U.S. Department of Education, Teacher Quality website at: http://www.ed.gov/offices/OPE/heatqp/index.html

SUPPLEMENTARY INFORMATION: At these workshops, the public will learn more about the purposes and requirements of this program, how to apply for funds, program eligibility requirements, and considerations that might help them to improve the quality of their grant applications. Department of Education staff with expertise on these and other issues related to the Teacher Quality Enhancement Grants Program will be available to answer any questions on these topics.

Dates, Times, and Locations

The dates, times, and locations of the technical assistance workshops are as follows:

1. April 13, 2000, 8:30 a.m. to 1 p.m., Arizona State University, Payne Bldg., Room 129, Tempe, Arizona (Registration: 8:30 to 9 a.m.) Contact Person: Kathy Langerman, (480) 965-3146 or kllang@asu.edu

2. April 18, 2000, 8:30 a.m. to 1 p.m., Boston College, Lower Dining Hall, Heights Room, 140 Commonwealth Avenue, Chestnut Hill, Massachusetts (Registration: 8:30 to 9 a.m.) Contact Person: Pamela Herrup, (617) 552-0763 or herrup@bc.edu

3. April 20, 2000, 8:30 a.m. to 1 p.m., University of Wisconsin-Milwaukee, University Center for Continuing Education (UCCE), 161 W. Wisconsin Avenue, Room 7970, Milwaukee, Wisconsin (Registration: 8:30 to 9 a.m.) Contact Person: Linda Post, (414) 229-4884 or lpost@uwm.edu

4. April 25, 2000, 8:30 a.m. to 1 p.m., University of Miami, University Center, Section A, Flamingo Ballroom, 1306 Stanford Drive, Coral Gables, Florida (Registration: 8:30 to 9 a.m.) Contact Person: Martha Kairuz, (305) 284-5937 or mkairuz@umiami.ir.miami.edu.

Any interested parties are invited to attend these workshops.

Assistance to Individuals With Disabilities at the Technical Assistance Workshops

The meeting sites are accessible to individuals with disabilities. The Department will provide a sign language interpreter at each of the scheduled workshops. An individual with a disability who will need an auxiliary aid or service other than an interpreter to participate in the meeting (e.g., assistive listening device, or materials in alternate format) should notify the contact person listed in the FOR FURTHER INFORMATION CONTACT section at least two weeks before the scheduled workshop date. Although we will attempt to meet a request received after this date, the requested auxiliary aid or service may not be available because of insufficient time to arrange it.

There is no pre-registration for these workshops. For additional workshop information, you may visit the Teacher Quality website at: http://www.ed.gov/offices/OPE/heatqp/index.html or contact the person designated as contact for each workshop site listed.

FOR FURTHER INFORMATION CONTACT: Brenda Shade, Teacher Quality Program Office: Department of Education, Office of Postsecondary Education; 1990 K Street NW; Washington, DC 20006. Inquiries may be sent by e-mail to Brenda_/Shade@ed.gov (please type in the subject line:

PRE-APPLICATION WORKSHOP) or by fax to: (202) 502-7775. If you use a telecommunications device for the deaf (TDD), you may call the Federal Information Relay Service (FIRS) at 1-800-877-8339.

Individuals with disabilities may obtain this document in an alternate format (e.g., Braille, large print, audiotape, or computer diskette) on request to the contact person cited in the preceding paragraph.

Electronic Access to This Document

You may view this document, as well as all other Department of Education documents published in the Federal Register, in text or Adobe Portable Document Format (PDF)) on the Internet at either of the following sites:

http://ocfo.ed.gov/fedreg.htm

http://www.ed.gov/news.html

To use the PDF you must have the Adobe Acrobat Reader Program with Search, which is available free at either of the previous sites. If you have questions about using the PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

Dated: April 3, 2000.
Claudio R. Prieto,
Acting Assistant Secretary, Office of Postsecondary Education.

[FR Doc. 00-8522 Filed 4-5-00; 8:45 am]

BILLING CODE 4000-01-M